DEPARTMENT OF LABOR

Employment and Training Administration

[TA-W-83,294]

Benteler Automotive, Including On-Site Leased Workers From Lacosta Family Support Services and Manpower, Grand Rapids, Michigan; Amended Certification Regarding Eligibility To Apply for Worker Adjustment Assistance

In accordance with Section 223 of the Trade Act of 1974, as amended (“Act”), 19 U.S.C. 2273, the Department of Labor issued a Certification of Eligibility to Apply for Worker Adjustment Assistance on January 6, 2014, applicable to workers of Benteler Automotive, Grand Rapids, Michigan, including on-site leased workers from Manpower. The Department's Notice of determination was published in the Federal Register on January 10, 2014.

At the request of a state workforce official, the Department reviewed the certification for workers of the subject firm.

The company reports that workers leased from Lacosta Family Support Services were employed on-site at the subject firm. The Department has determined that these workers were sufficiently under the control of the subject firm to be considered leased workers.

Based on these findings, the Department is amending this certification to include workers leased from Lacosta Family Support Services working on-site at Benteler Automotive, Grand Rapids, Michigan.

The amended notice applicable to TA-W-83,294 is hereby issued as follows:

“All workers of Lacosta Family Support Services reporting to Benteler Automotive, Grand Rapids, Michigan, who became totally or partially separated from employment on or after December 11, 2012, through January 6, 2016, and all workers in the group threatened with total or partial separation from employment on the date of certification through two years from the date of certification, are eligible to apply for adjustment assistance under Chapter 2 of Title II of the Trade Act of 1974, as amended.”

Signed in Washington, DC this 11th day of April, 2014.
Del Min Amy Chen,
Certifying Officer, Office of Trade Adjustment Assistance.

[FR Doc. 2014-10254 Filed 5-5-14; 8:45 am]

BILLING CODE 4510-FN-P